POSTAL SERVICE

International Product Change—Global Expedited Package Services—Non-Published Rates

AGENCY: Postal Service™.

ACTION: Notice.

SUMMARY: The Postal Service gives notice of filing a request with the Postal Regulatory Commission to add Global Expedited Package Services—Non-Published Rates 4 (GEPS-NPR 4) to the Competitive Products List.

DATES: Effective date: January 8, 2013.

FOR FURTHER INFORMATION CONTACT: Patricia A. Fortin, 202-268-8785.

SUPPLEMENTARY INFORMATION: The United States Postal Service® hereby gives notice that, pursuant to 39 U.S.C. 3642, on December 21, 2012, it filed with the Postal Regulatory Commission a Request of the United States Postal Service to add Global Expedited Package Services—Non-Published Rates 4 (GEPS-NPR 4) to the Competitive Products List and Notice of Filing GEPS-NPR 4 Model Contract and Application for Non-public Treatment of Materials Filed Under Seal. Documents are available at www.prc.gov, Docket Nos. MC2013-27 and CP2013-35.

Stanley F. Mires,
Attorney, Legal Policy & Legislative Advice.

[FR Doc. 2013-00074 Filed 1-7-13; 8:45 am]

BILLING CODE 7710-12-P